DEPARTMENT OF ENERGY

Federal Energy Regulatory Commission

[Docket No. CP12-134-000]

Trunkline Gas Company, LLC; Notice of Request Under Blanket Authorization

Take notice that on April 13, 2012, Trunkline Gas Company, LLC (Trunkline), 5051 Westheimer Road, Houston, Texas 77056-5306, filed in Docket No. CP12-134-000, an application pursuant to sections 157.205 and 157.216 of the Commission's Regulations under the Natural Gas Act (NGA), as amended, to abandon in place two natural gas supply laterals and related facilities located in Vermilion Parish, Louisiana, and extending into State and Federal waters, offshore Louisiana in the Vermilion Block, under Trunkline's blanket certificate issued in Docket No. CP83-84-000,¹ all as more fully set forth in the application which is on file with the Commission and open to the public for inspection.

¹ 22 FERC ¶ 62,044 (1983).

Trunkline proposes to abandon in place its Line Nos. 210A-2300 and 210A-2400, including their associated meters and appurtenances. Trunkline states that transmission Line No. 210A-2300 consists of approximately 9.48 miles of 10-inch diameter pipeline which is located between Vermilion Blocks 23 and 26B, offshore Louisiana. Trunkline also states that gathering Line No. 210A-2400 consists of approximately 13.33 miles of 16-inch diameter pipeline that extends from a subsea connection on Trunkline's Line No 210A-2300 in Vermilion Block 23 to Trunkline's Line No. 210A-100 onshore at approximately Mile Post 23 in Vermilion Parish. Trunkline further states that Chevron U.S.A., the sole customer served by these facilities, has given Trunkline its written consent to abandon the two pipeline segments. Trunkline estimates that it would cost $4,326,847 to abandon Lines No. 210A-2300 and 210A-2400 in place.

Any questions concerning this application may be directed to Stephen T. Veatch, Senior Director of Certificates and Tariffs, Trunkline Gas Company, LLC, 5051 Westheimer Road, Houston, Texas 77056-5306, telephone at (713) 989-2024, facsimile at (713) 989-1176, or via email: Stephen.Veatch@sug.com.

This filing is available for review at the Commission or may be viewed on the Commission's web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: April 24, 2012.
Kimberly D. Bose,
Secretary.

[FR Doc. 2012-10536 Filed 5-1-12; 8:45 am]

BILLING CODE 6717-01-P